DEPARTMENT OF TRANSPORTATION

Federal Aviation Administration

14 CFR Part 39

[Docket No. FAA-2015-2967; Directorate Identifier 2014-NM-072-AD]

RIN 2120-AA64

Airworthiness Directives; DASSAULT AVIATION Airplanes

AGENCY: Federal Aviation Administration (FAA), DOT.

ACTION: Notice of proposed rulemaking (NPRM).

SUMMARY: We propose to supersede Airworthiness Directive (AD) 2002-23-20, for certain Dassault Aviation Model FALCON 900EX and MYSTERE-FALCON 900 airplanes. AD 2002-23-20 currently requires repetitive operational tests of the flap asymmetry detection system to verify proper functioning, and repair if necessary; repetitive replacement of the inboard flap jackscrews with new or reconditioned jackscrews; and repetitive measurement of the screw/nut play of the jackscrews on the inboard and outboard flaps to detect discrepancies, and corrective action if necessary. AD 2002-23-20 currently requires a revision of the airplane flight manual. Since we issued AD 2002-23-20, the maintenance manual has been revised. This proposed AD would require revising the maintenance or inspection program, as applicable, to include the maintenance tasks and airworthiness limitations specified in the Airworthiness Limitations section of the airplane maintenance manual. This proposed AD also removes the Model FALCON 900EX airplanes from the applicability of the existing AD. We are proposing this AD to prevent reduced structural integrity of the airplane.

DATES: We must receive comments on this proposed AD by September 17, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-2967; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2015-2967; Directorate Identifier 2014-NM-072-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 3, 2003, we issued AD 2002-23-20, Amendment 39-12964 (67 FR 71098, November 29, 2002); corrected May 4, 2010 (75 FR 23579). AD 2002-23-20 requires actions intended to address an unsafe condition on certain Dassault Aviation Model FALCON 900EX and MYSTERE-FALCON 900 airplanes.

Since we issued AD 2002-23-20, Amendment 39-12964 (67 FR 71098, November 29, 2002); corrected May 4, 2010 (75 FR 23579), the maintenance manual has been revised. In addition, we are removing the Model 900EX airplanes from the applicability of the existing AD and those airplanes are addressed through a separate AD action (AD 2014-16-26, Amendment 39-17950 (79 FR 51077, August 27, 2014)).

The European Aviation Safety Agency (EASA), which is the Technical Agent for the Member States of the European Union, has issued EASA Airworthiness Directive 2013-0053, dated March 4, 2013 (referred to after this as the Mandatory Continuing Airworthiness Information, or “the MCAI”), to correct an unsafe condition for all MYSTERE-FALCON 900 series airplanes. The MCAI states:

The airworthiness limitations and maintenance requirements for the Mystère-Falcon 900 type design are included in Aircraft Maintenance Manual (AMM) chapter 5-40 and are approved by the European Aviation Safety Agency (EASA). EASA issued AD 2008-0221[http://ad.easa.europa.eu/blob/easa_ad_2008_0221_Corrected.pdf/AD_2008-0221_1] to require accomplishment of the maintenance tasks, and implementation of the airworthiness limitations, as specified in Dassault Aviation F900 AMM chapter 5-40 referenced DGT 113873 at revision 16.

Since that [EASA] AD was issued, Dassault Aviation issued revision 20 of F900 AMM chapter 5-40 which contains new or more restrictive maintenance requirements and/or airworthiness limitations and introduces, among others, the following changes:

—Tasks renumbering;

—Introduction of a Corrosion Prevention Control Program (CPCP);

—Upgrade of screwjack of flap actuators from the older to the latest -3 version;

—Revised Time Between Overhaul for screwjack of flap actuators -3 version;

—Revised interval for checking the screw/nut play on screwjack of flap actuators -3 version;

—Removal of calendar limit for checking the screw/nut play on screwjack of external flap actuators -1 and -2 versions;

—Removal of service life limit for screwjack of flap actuators;

—Test of flap asymmetry protection system. Compliance with this test is required by [a certain AD ***], but F900 AMM chapter 5-40 at revision 20 introduces an extended inspection interval;

—Inspection procedures of fuselage and wings;

—Check of overpressure tightness on pressurization control regulating valves. Compliance with this check is required by EASA AD 2008-0072 [http://ad.easa.europa.eu/blob/easa_ad_2008_0072.pdf/AD_2008-0072_1] [which corresponds to FAA AD 2010-26-05, Amendment 39-16544 (75 FR 79952, December 21, 2010], but F900 AMM chapter 5-40 at revision 20 introduces an extended inspection interval;

—Check of overpressure relief valve vacuum supply lines.

The maintenance tasks and airworthiness limitations, as specified in the F900 AMM chapter 5-40, have been identified as mandatory actions for continued airworthiness of the F900 type design. Failure to comply with AMM chapter 5-40 at revision 20 may result in an unsafe condition [reduced structural integrity of the airplane].

For the reasons described above, this [EASA] AD requires the implementation of the maintenance tasks and airworthiness limitations, as specified in the Dassault Aviation F900 AMM chapter 5-40 DGT 113873 at revision 20.

You may examine the MCAI in the AD docket on the Internet at http://www.regulations.gov by searching for and locating Docket No. FAA-2015-2967.

Related Service Information Under 1 CFR Part 51

We reviewed Chapter 5-40, Airworthiness Limitations, Revision 20, dated October 2012, of the Dassault Aviation Falcon 900 Maintenance Manual. This service information describes procedures, maintenance tasks, and airworthiness limitations specified in the Airworthiness Limitations section of the AMM. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 112 airplanes of U.S. registry.

We estimate that it would take about 1 work-hour per product to comply with the basic requirements of this proposed AD. The average labor rate is $85 per work-hour. Based on these figures, we estimate the cost of this proposed AD on U.S. operators to be $9,520, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-23-20, Amendment 39-12964 (67 FR 71098, November 29, 2002); corrected May 4, 2010 (75 FR 23579); and adding the following new AD:

DASSAULT AVIATION: Docket No. FAA-2015-2967; Directorate Identifier 2014-NM-072-AD.

(a) Comments Due Date

We must receive comments by September 17, 2015.

(b) Affected ADs

This AD replaces AD 2002-23-20, Amendment 39-12964 (67 FR 71098, November 29, 2002); corrected May 4, 2010 (75 FR 23579). This AD also affects AD 2010-26-05, Amendment 39-16544 (75 FR 79952, December 21, 2010).

(c) Applicability

This AD applies to all DASSAULT AVIATION Model MYSTERE-FALCON 900 airplanes, certificated in any category.

(d) Subject

Air Transport Association (ATA) of America Code 05, Time Limits/Maintenance Checks.

(e) Reason

This AD was prompted by our determination of the need for a revision to the airplane airworthiness limitations to introduce a corrosion prevention control program, among other changes, to the maintenance requirements and airworthiness limitations. We are issuing this AD to prevent reduced structural integrity of the airplane.

(f) Compliance

Comply with this AD within the compliance times specified, unless already done.

(g) Revision of Maintenance or Inspection Program

Within 30 days after the effective date of this AD, revise the maintenance or inspection program, as applicable, to incorporate the information specified in Chapter 5-40, Airworthiness Limitations, Revision 20, dated October 2012, of the Dassault Aviation Falcon 900 Maintenance Manual. The initial compliance time for accomplishing the actions specified in Chapter 5-40, Airworthiness Limitations, Revision 20, dated October 2012, of the Dassault Aviation Falcon 900 Maintenance Manual, is within the applicable times specified in the maintenance manual or within 30 days after the effective date of this AD, whichever occurs later, except as provided by paragraphs (g)(1) through (g)(4) of this AD.

(1) The term “LDG” in the “First Inspection” column of any table in the service information means total airplane landings.

(2) The term “FH” in the “First Inspection” column of any table in the service information means total flight hours.

(3) The term “FC” in the “First Inspection” column of any table in the service information means total flight cycles.

(4) The term “M” in the “First Inspection” column of any table in the service information means months.

(h) Terminating Action

Accomplishing paragraph (g) of this AD terminates the requirements of paragraph (g)(1) of AD 2010-26-05, Amendment 39-16544 (75 FR 79952, December 21, 2010), for DASSAULT AVIATION Model MYSTERE-FALCON 900 airplanes.

(i) No Alternative Actions and Intervals

After accomplishing the revision required by paragraph (g) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(k) Related Information

(1) Refer to Mandatory Continuing Airworthiness Information (MCAI) EASA Airworthiness Directive 2013-0053, dated March 4, 2013, for related information. This MCAI may be found in the AD docket on the Internet at http://www.regulations.gov by searching for and locating Docket No. FAA-2015-2967.

(2) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on July 23, 2015.
Victor Wicklund,
Acting Manager, Transport Airplane Directorate, Aircraft Certification Service.

[FR Doc. 2015-18689 Filed 7-31-15; 8:45 am]

BILLING CODE 4910-13-P